Proclamation 10141 of January 20, 2021

Ending Discriminatory Bans on Entry to the United States

By the President of the United States of America

A Proclamation

The United States was built on a foundation of religious freedom and tolerance, a principle enshrined in the United States Constitution. Nevertheless, the previous administration enacted a number of Executive Orders and Presidential Proclamations that prevented certain individuals from entering the United States—first from primarily Muslim countries, and later, from largely African countries. Those actions are a stain on our national conscience and are inconsistent with our long history of welcoming people of all faiths and no faith at all.

Beyond contravening our values, these Executive Orders and Proclamations have undermined our national security. They have jeopardized our global network of alliances and partnerships and are a moral blight that has dulled the power of our example the world over. And they have separated loved ones, inflicting pain that will ripple for years to come. They are just plain wrong.

Make no mistake, where there are threats to our Nation, we will address them. Where there are opportunities to strengthen information-sharing with partners, we will pursue them. And when visa applicants request entry to the United States, we will apply a rigorous, individualized vetting system. But we will not turn our backs on our values with discriminatory bans on entry into the United States.

NOW, THEREFORE, I, JOSEPH R. BIDEN JR., President of the United States, by the authority vested in me by the Constitution and the laws of the United States of America, including sections 212(f) and 215(a) of the Immigration and Nationality Act, 8 U.S.C. 1182(f) and 1185(a), hereby find that it is in the interests of the United States to revoke Executive Order 13780 of March 6, 2017 (Protecting the Nation From Foreign Terrorist Entry Into the United States), Proclamation 9645 of September 24, 2017 (Enhancing Vetting Capabilities and Processes for Detecting Attempted Entry Into the United States by Terrorists or Other Public-Safety Threats), Proclamation 9723 of April 10, 2018 (Maintaining Enhanced Vetting Capabilities and Processes for Detecting Attempted Entry Into the United States by Terrorists or Other Public-Safety Threats), and Proclamation 9983 of January 31, 2020 (Improving Enhanced Vetting Capabilities and Processes for Detecting Attempted Entry Into the United States by Terrorists or Other Public-Safety Threats). Our national security will be enhanced by revoking the Executive Order and Proclamations.

Accordingly, I hereby proclaim:

Section 1. Revocations. Executive Order 13780, and Proclamations 9645, 9723, and 9983 are hereby revoked.

Sec. 2. Resumption of Visa Processing and Clearing the Backlog of Cases in Waiver Processing. (a) The Secretary of State shall direct all Embassies and Consulates, consistent with applicable law and visa processing procedures, including any related to coronavirus disease 2019 (COVID-19), to resume visa processing in a manner consistent with the revocation of the Executive Order and Proclamations specified in section 1 of this proclamation.

(b) Within 45 days of the date of this proclamation, the Secretary of State shall provide to the President a report that includes the following elements:

(i) The number of visa applicants who were being considered for a waiver of restrictions under Proclamation 9645 or 9983 on the date of this proclamation and a plan for expeditiously adjudicating their pending visa applications.

(ii) A proposal to ensure that individuals whose immigrant visa applications were denied on the basis of the suspension and restriction on entry imposed by Proclamation 9645 or 9983 may have their applications reconsidered. This proposal shall consider whether to reopen immigrant visa applications that were denied due to the suspension and restriction on entry imposed by Proclamation 9645 or 9983, whether it is necessary to charge an additional fee to process those visa applications, and development of a plan for the Department of State to expedite consideration of those visa applications.

(iii) A plan to ensure that visa applicants are not prejudiced as a result of a previous visa denial due to the suspension and restriction on entry imposed by Proclamation 9645 or 9983 if they choose to re-apply for a visa.

Sec. 3. Review of Information-Sharing Relationships and a Plan to Strengthen Partnerships. Within 120 days of the date of this proclamation, the Secretary of State and the Secretary of Homeland Security, in consultation with the Director of National Intelligence, shall provide to the President a report consisting of the following elements:

(a) A description of the current screening and vetting procedures for those seeking immigrant and nonimmigrant entry to the United States. This should include information about any procedures put in place as a result of any of the Executive Order and Proclamations revoked in section 1 of this proclamation and should also include an evaluation of the usefulness of form DS-5535.

(b) A review of foreign government information-sharing practices vis-à-vis the United States in order to evaluate the efficacy of those practices, their contribution to processes for screening and vetting those individuals seeking entry to the United States as immigrants and nonimmigrants, and how the United States ensures the accuracy and reliability of the information provided by foreign governments.

(c) Recommendations to improve screening and vetting activities, including diplomatic efforts to improve international information-sharing, use of foreign assistance funds, where appropriate, to support capacity building for information-sharing and identity-management practices, and ways to further integrate relevant executive department and agency data into the vetting system.

(d) A review of the current use of social media identifiers in the screening and vetting process, including an assessment of whether this use has meaningfully improved screening and vetting, and recommendations in light of this assessment.

Sec. 4. General Provisions. (a) Nothing in this proclamation shall be construed to impair or otherwise affect:

(i) the authority granted by law to an executive department or agency, or the head thereof; or

(ii) the functions of the Director of the Office of Management and Budget relating to budgetary, administrative, or legislative proposals.

(b) This proclamation shall be implemented in a manner consistent with applicable law and subject to the availability of appropriations.

(c) This proclamation is not intended to, and does not, create any right or benefit, substantive or procedural, enforceable at law or in equity by any party against the United States, its departments, agencies, or entities, its officers, employees, or agents, or any other person.

IN WITNESS WHEREOF, I have hereunto set my hand this twentieth day of January, in the year of our Lord two thousand twenty-one, and of the Independence of the United States of America the two hundred and forty-fifth.

[FR Doc. 2021-01749

Filed 1-22-21; 11:15 am]

Billing code 3295-F1-P